DEPARTMENT OF LABOR

Employment and Training Administration

[TA-W-57,069]

Eaton Corporation, Fluid Power Group, Vinita, OK; Notice of Termination of Investigation

Pursuant to Section 221 of the Trade Act of 1974, an investigation was initiated on April 28, 2005 in response to petition filed by a company official on behalf of workers at Eaton Corporation, Fluid Power Group, Vinita, Oklahoma.

The petitioner has requested that the petition be withdrawn. Consequently, the investigation has been terminated.

Signed in Washington, DC, this 11th day of May, 2005.
Richard Church,
Certifying Officer, Division of Trade Adjustment Assistance.

[FR Doc. E5-2641 Filed 5-24-05; 8:45 am]

BILLING CODE 4510-30-P